INTERNATIONAL TRADE COMMISSION

[Investigation No. 337-TA-574]

In the Matter of Certain Equipment for Telecommunications or Data Communications Networks, Including Routers, Switches, and Hubs, and Components Thereof; Notice of Commission Determination Not To Review an Initial Determination Granting a Joint Motion To Terminate the Investigation Based on a Settlement Agreement

AGENCY: U.S. International Trade Commission.

ACTION: Notice.

SUMMARY: Notice is hereby given that the U.S. International Trade Commission has determined not to review an initial determination (“ID”) (Order No. 52) of the presiding administrative law judge (“ALJ”) granting a joint motion for termination of the above-captioned investigation based on a settlement agreement.

FOR FURTHER INFORMATION CONTACT: Clint Gerdine, Esq., Office of the General Counsel, U.S. International Trade Commission, 500 E Street, SW., Washington, DC 20436, telephone (202) 708-2310. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on June 16, 2006, based on a complaint filed on May 15, 2006, by Telcordia Technologies, Inc. (“Telcordia”) of Piscataway, New Jersey. An amended complaint was filed on June 5, 2006. The complaint as amended alleges violations of section 337 in the importation into the United States, the sale for importation, and the sale within the United States after importation of certain equipment for telecommunications or data communications networks, including routers, switches, hubs, and components thereof, by reason of infringement of claims 1, 3, and 4 of U.S. Patent No. 4,893,306 (“the ‘306 patent”); claims 1, 3, 5, 8, 11, and 33 of U.S. Patent No. Re. 36,633 (“the ‘633 patent”); and claims 1, 2, 7, and 8 of U.S. Patent No. 4,835,763 (“the ‘763 patent”). The amended complaint named five respondents: Cisco Systems, Inc. (“Cisco”) of San Jose, California; Lucent Technologies, Inc. (“Lucent”) of Murray Hill, New Jersey; Alcatel S.A. of France and Alcatel USA, Inc. of Plano, Texas (collectively “Alcatel”); and PMC-Sierra, Inc. (“PMC-Sierra”) of Santa Clara, California. The complaint further alleged that an industry in the United States exists as required by subsection (a)(2) of section 337.

On August 23, 2006, the Commission issued notice of its determination not to review an ID terminating the investigation as to the ‘306 patent and certain claims of the ‘633 patent. On January 4, 2007, the Commission issued notice of its determination not to review an ID terminating the investigation as to the ‘763 patent. On June 15, 2007, the Commission issued notice of its determination not to review an ID terminating the investigation as to respondents Alcatel and Lucent on the basis of a settlement agreement. On August 8, 2008, the Commission issued notice of its determination not to review an ID terminating the investigation as to respondent PMC-Sierra. On September 17, 2008, the Commission issued notice of its determination not to review an ID granting Telecordia's motion for summary determination that respondent Cisco is precluded from litigating certain issues in view of a previous judgment in a case involving the same issues and the same parties in the U.S. District Court for the District of Delaware.

On August 29, 2008, Telecordia and Cisco filed a joint motion for termination of the investigation, based on a settlement agreement. The ALJ issued the subject ID on September 8, 2008, granting the joint motion. No petitions for review of the ID were filed. The Commission has determined not to review the subject ID.

The authority for the Commission's determination is contained in section 337 of the Tariff Act of 1930, as amended (19 U.S.C. 1337), and in sections 210.21(a)(2), (b), and 210.42(h) of the Commission's Rules of Practice and Procedure, 19 CFR 210.21(a)(1), (b), 210.42(h).

By order of the Commission.
Issued: September 29, 2008.
Marilyn R. Abbott,
Secretary to the Commission.

[FR Doc. E8-23320 Filed 10-2-08; 8:45 am]

BILLING CODE 7020-02-P